DEPARTMENT OF HOMELAND SECURITY

Federal Emergency Management Agency

44 CFR Part 65

Changes in Flood Elevation Determinations

AGENCY: Federal Emergency Management Agency (FEMA), Department of Homeland Security.

ACTION: Final rule.

SUMMARY: Modified Base (1% annual-chance) Flood Elevations (BFEs) are finalized for the communities listed below. These modified elevations will be used to calculate flood insurance premium rates for new buildings and their contents.

EFFECTIVE DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Mitigation Division Director certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 65

Flood insurance, Floodplains, Reporting and recordkeeping requirements.

Accordingly, 44 CFR Part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Arkansas: Lonoke, Case No. 04-06-2140P, FEMA Docket No. P-7646 | City of Cabot | July 20, 2005, July 27, 2005, Cabot Star-Herald | The Hon. Mickey Staumbaugh, Mayor, City of Cabot, Post Office Box 1113, Cabot, Arkansas 72076 | October 25, 2005 | 050309
Illinois:
Will, Case No. 04-05-4087-P, FEMA Docket No. P-7646 | City of Lockport | July 6, 2005, July 13, 2005, The Herald News | The Honorable Tim Murphy, Mayor, City of Lockport, 222 East 9th Street, Lockport, Illinois 60441 | June 21, 2005 | 170703
Cook, Case No. 04-05-2894P, (FEMA Docket No. P-7646) | Village of Orland Park | June 23, 2005, June 30, 2005, The Orland Park Star | The Hon. Daniel McLaughlin, Mayor, Village of Orland Park, 14700 Ravinia Avenue, Orland Park, Illinois 60462 | September 29, 2005 | 170140
Cook, Case No. 04-05-2894P, FEMA Docket No. P-7646 | Village of Tinley Park | June 23, 2005, June 30, 2005, The Tinley Park Star | The Hon. Edward J. Zabrocki, Mayor, Village of Tinley Park, 16250 South Oak Park Avenue, Tinley Park, Illinois 60477 | September 29, 2005 | 170169
Kansas: Sedgwick, Case No. 04-07-526P, FEMA Docket No. P-7646 | City of Wichita | June 23, 2005, June 30, 2005, The Wichita Eagle | The Honorable Carlos Mayans, Mayor, City of Wichita, 455 North Main, 1st Floor, Wichita, Kansas 67202 | September 29, 2005 | 200328
Minnesota:
Anoka, Case No. 04-05-3553P, FEMA Docket No. P-7644 | City of Andover | May 13, 2005, May 20, 2005, Anoka County Union | The Honorable Mike Gamache, Mayor, City of Andover, 1685 Crosstown Boulevard, NW., Andover, Minnesota 55304 | August 19, 2005 | 270689
Anoka, Case No. 04-05-3553P, FEMA Docket No. P-7644 | City of Oak Grove | May 13, 2005, May 20, 2005, Anoka County Union | The Honorable Oscar Olson, Mayor, City of Oak Grove, 22200 Poppy Street, NW., Anoka, Minnesota 55303 | August 19, 2005 | 270031
Scott, Case No. 04-05-0763P, FEMA Docket No. P-7644 | City of Savage | May 14, 2005, May 21, 2005, The Savage Pacer | The Hon. Thomas M. Brennan, Mayor, City of Savage, 6000 McColl Drive, Savage, Minnesota 55378-2464 | August 20, 2005 | 270433
New Mexico:
Bernalillo, Case No. 04-06-1742P, FEMA Docket No. P-7646 | City of Albuquerque | July 7, 2005, July 14, 2005, Albuquerque Journal | The Honorable Martin Chavez, Mayor, City of Albuquerque, City/County Building, 11th Floor, One Civic Plaza NW., Albuquerque, New Mexico 87102 | October 13, 2005 | 350002
Bernalillo, Case No. 04-06-1742P, FEMA Docket No. P-7646 | Unincorporated Areas | July 7, 2005, July 14, 2005, Albuquerque Journal | The Honorable Tom Rutherford, Chairman, Bernalillo County, One Civic Plaza NW., Albuquerque, New Mexico 87102 | October 13, 2005 | 350001
Oklahoma:
Tulsa, Case No. 04-06-1611P, FEMA Docket No. P-7466 | City of Broken Arrow | July 7, 2005, July 14, 2005, Broken Arrow Ledger | The Honorable Richard Carter, Mayor, City of Broken Arrow, 220 South First Street, Broken Arrow, Oklahoma 74013 | October 13, 2005 | 400236
Tulsa, Case No. 04-06-1461P, FEMA Docket No. P-7646 | City of Broken Arrow | July 7, 2005, July 14, 2005, Broken Arrow Ledger | The Honorable Richard Carter, Mayor, City of Broken Arrow, 220 South First Street, Broken Arrow, Oklahoma 74013 | October 13, 2005 | 400236
Texas:
Bexar, Comal and Kendall, Case No. 04-06-395P, FEMA Docket No. P-7646 | City of Fair Oaks Ranch | July 22, 2005, July 29, 2005, The Boerne Star Hill Country Recorder | The Honorable E. L. Gaubatz, Mayor, City of Fair Oaks Ranch, 7286 Deitz Elkhorn, Fair Oaks Ranch, Texas 78015 | July 5, 2005 | 481644
Collin, Case No. 04-06-1201P, FEMA Docket No. P-7646 | City of Frisco | July 22, 2005, July 29, 2005, The Frisco Enterprise | The Honorable Mike Simpson, Mayor, City of Frisco, City Hall 6891 Main Street, Frisco, Texas 75034 | October 28, 2005 | 480134
Bexar, Case No. 04-06-1738P, FEMA Docket No. P-7644 | City of San Antonio | May 24, 2005, May 31, 2005, San Antonio Express News | The Honorable Ed Garza, Mayor, City of San Antonio, Post Office Box 839966, San Antonio, Texas 78283-3966 | August 30, 2005 | 480045

(Catalog of Federal Domestic Assistance No. 83.100, “Flood Insurance.”)

Dated: January 9, 2006.
David I. Maurstad,
Acting Director, Mitigation Division, Federal Emergency Management Agency, Department of Homeland Security.

[FR Doc. 06-1342 Filed 2-13-06; 8:45 am]

BILLING CODE 9110-12-P